DEPARTMENT OF ENERGY

Federal Energy Regulatory Commission

Combined Notice of Filings #1

December 11, 2007.

Take notice that the Commission has received the following Natural Gas Pipeline Rate and Refund Report filings:

Docket Numbers: RP05-157-008.

Applicants: Saltville Gas Storage Company, LLC.

Description: Saltville Gas Storage Company, LLC submits Original Sheet 20 et al. to FERC Gas Tariff, Original Volume 1, to become effective 10/1/07 under RP05-157.

Filed Date: 12/07/2007.

Accession Number: 20071211-0055.

Comment Date: 5 p.m. Eastern Time on Wednesday, December 19, 2007.

Docket Numbers: RP96-200-184.

Applicants: CenterPoint Energy Gas Transmission Company.

Description: CenterPoint Energy Gas Transmission Company submits notification of amendment of a Transportation Service Agreement with BP Energy Company, etc., to become effective 12/1/07.

Filed Date: 12/04/2007.

Accession Number: 20071206-0215.

Comment Date: 5 p.m. Eastern Time on Monday, December 17, 2007.

Docket Numbers: RP97-13-031.

Applicants: East Tennessee Natural Gas, LLC.

Description: East Tennessee Natural Gas, LLC submits Original Sheet 29 et al. to FERC Gas Tariff, Third Revised Volume 1, effective 10/1/07.

Filed Date: 12/07/2007.

Accession Number: 20071210-0294.

Comment Date: 5 p.m. Eastern Time on Wednesday, December 19, 2007.

Docket Numbers: RP07-319-002.

Applicants: Viking Gas Transmission Company.

Description: Viking Gas Transmission Company submits their Refund Report in compliance with FERC 10/5/07 Order.

Filed Date: 12/07/2007.

Accession Number: 20071210-0025.

Comment Date: 5 p.m. Eastern Time on Wednesday, December 19, 2007.

Docket Numbers: RP08-50-001.

Applicants: Gulf South Pipeline Company, LP.

Description: Gulf South Pipeline Company, LP submits Substitute Original Sheet 1422 to FERC Gas Tariff, Sixth Revised Volume 1.

Filed Date: 12/07/2007.

Accession Number: 20071210-0024.

Comment Date: 5 p.m. Eastern Time on Wednesday, December 19, 2007.

Docket Numbers: RP08-107-000.

Applicants: Midwestern Gas Transmission Company.

Description: Midwestern Gas Transmission Company submits its cashout report for the September 2006 through the August 2007 period.

Filed Date: 12/05/2007.

Accession Number: 20071206-0216.

Comment Date: 5 p.m. Eastern Time on Monday, December 17, 2007.

Docket Numbers: RP08-108-000.

Applicants: Transcontinental Gas Pipe Line Corp.

Description: Transcontinental Gas Pipe Line Corp. submits Thirty-Ninth Revised Sheet 28 to FERC Gas Tariff, Third Revised Volume 1, effective 12/1/07.

Filed Date: 12/06/2007.

Accession Number: 20071207-0109.

Comment Date: 5 p.m. Eastern Time on Tuesday, December 18, 2007.

Docket Numbers: RP08-109-000.

Applicants: Northern Natural Gas Company.

Description: Northern Natural Gas Company submits Eighth Revised Sheet 138 et al. to FERC Gas Tariff, Fifth Revised Volume 1, effective 1/7/08.

Filed Date: 12/07/2007.

Accession Number: 20071207-0254.

Comment Date: 5 p.m. Eastern Time on Wednesday, December 19, 2007.

Docket Numbers: RP08-110-000.

Applicants: Columbia Gas Transmission Corporation.

Description: Columbia Gas Transmission Corporation submits Sixth Revised Sheet 1 et al to FERC Gas Tariff, Second Revised Volume 1, effective 5/1/08.

Filed Date: 12/07/2007.

Accession Number: 20071207-0200.

Comment Date: 5 p.m. Eastern Time on Wednesday, December 19, 2007.

Docket Numbers: RP08-111-000.

Applicants: Chandeleur Pipe Line Company.

Description: Chandeleur Pipe Line Company submits its Twenty-Second Revised Sheet 5 to its FERC Gas Tariff, Second Revised Volume 1.

Filed Date: 12/07/2007.

Accession Number: 20071210-0026.

Comment Date: 5 p.m. Eastern Time on Wednesday, December 19, 2007.

Docket Numbers: RP08-112-000.

Applicants: Sabine Pipe Line, LLC.

Description: Sabine Pipe Line, LLC submits its Ninth Revised Sheet 20 et al. to FERC Gas Tariff, Original Volume 1, effective 1/1/08.

Filed Date: 12/07/2007.

Accession Number: 20071210-0027.

Comment Date: 5 p.m. Eastern Time on Wednesday, December 19, 2007.

Docket Numbers: RP08-113-000.

Applicants: Maritimes & Northeast Pipeline, L.L.C.

Description: Maritimes & Northeast Pipeline, LLC submits Third Revised Sheet 4 et al. to FERC Gas Tariff, First Revised Volume 1, to be effective 1/7/08.

Filed Date: 12/07/2007.

Accession Number: 20071210-0042.

Comment Date: 5 p.m. Eastern Time on Wednesday, December 19, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E7-24457 Filed 12-17-07; 8:45 am]

BILLING CODE 6717-01-P